DEPARTMENT OF ENERGY

Federal Energy Regulatory Commission

[Docket Nos. RP06-533-000, et al.]

Notice of Proposed Changes in FERC Gas Tariff

September 7, 2006.

| Docket No.
Algonquin Gas Transmission LLC | RP06-533-000
ANR Pipeline Company | RP06-531-000
ANR Storage Company | RP06-530-000
Blue Lake Gas Storage Company | RP06-532-000
Central Kentucky Transmission Company | RP06-549-000
Chandeleur Pipe Line Company | RP06-527-000
Columbia Gas Transmission Corporation | RP06-546-000
Columbia Gulf Transmission Company | RP06-552-000
Crossroads Pipeline Company | RP06-553-000
Dauphin Island Gathering Partners | RP06-550-000
Destin Pipeline Company, L.L.C | RP06-545-000
East Tennessee Natural Gas, LLC | RP06-538-000
Equitrans, L.P | RP06-514-000
Florida Gas Transmission Company, LLC | RP06-558-000
Gas Transmission Northwest Corporation | RP06-578-000
Granite State Gas Transmission, Inc | RP06-551-000
Great Lakes Gas Transmission Limited Partnership | RP06-567-000
Guardian Pipeline, L.L.C | RP06-562-000
Gulf South Pipeline Company, LP | RP06-508-000
Gulfstream Natural Gas System, L.L.C | RP06-536-000
Horizon Pipeline Company, L.L.C | RP06-458-000
Iroquois Gas Transmission System, L.P | RP06-547-000
KO Transmission Company | RP06-523-000
Maritimes & Northeast Pipeline, L.L.C | RP06-535-000
MarkWest New Mexico L.P | RP06-580-000
Midwestern Gas Transmission Company | RP06-566-000
MIGC, Inc | RP06-432-000
National Fuel Gas Supply Corporation | RP06-576-000
Natural Gas Pipeline Company of America | RP06-459-000
North Baja Pipeline, LLC | RP06-577-000
Northern Border Pipeline Company | RP06-563-000
Northern Natural Gas Company | RP06-559-000
Ozark Gas Transmission, L.L.C | RP06-586-000
Paiute Pipeline Company | RP06-522-000
Panhandle Eastern Pipe Line Company, LP | RP06-557-000
Panther Interstate Pipeline Energy, LLC | RP06-581-000
Petal Gas Storage L.L.C | RP06-561-000
Portland Natural Gas Transmission System | RP06-585-000
Questar Pipeline Company | RP06-507-000
Questar Southern Trails Pipeline Company | RP06-526-000
Sabine Pipe Line LLC | RP06-528-000
SCG Pipeline, Inc | RP06-565-000
Sea Robin Pipeline Company | RP06-555-000
Southern LNG, Inc | RP06-544-000
Southern Natural Gas Company | RP06-543-000
Southwest Gas Storage Company | RP06-554-000
Southwest Gas Transmission Company A Limited Partnership | RP06-524-000
Tennessee Gas Pipeline Company | RP06-541-000
Texas Eastern Transmission, LP | RP06-529-000
Texas Gas Transmission, LLC | RP06-516-000
Trailblazer Pipeline Company | RP06-460-000
Transwestern Pipeline Company, LLC | RP06-574-000
Trunkline Gas Company | RP06-564-000
Trunkline LNG Company, LLC | RP06-556-000
Tuscarora Gas Transmission Company | RP06-510-000
Vector Pipeline L.P | RP06-548-000
Venice Gathering System, L.L.C | RP06-518-000
Viking Gas Transmission Company | RP06-568-000
WestGas InterState, Inc | RP06-587-000
Williston Basin Interstate Pipeline Company | RP06-560-000

Take notice that the above-referenced pipelines tendered for filing their tariff sheets respectively, pursuant to section 154.402 of the Commission's Regulations to reflect the Commission's change in the unit rate for the Annual Charge Adjustment (ACA) surcharge to be applied to rates for recovery of 2006 Annual Charges pursuant to Order No. 472, in RM87-3-000. The proposed effective date of the tariff sheets is October 1, 2006.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the date as indicated below. Anyone filing an intervention or protest must serve a copy of that document on the Applicant. Anyone filing an intervention or protest on or before the intervention or protest date need not serve motions to intervene or protests on persons other than the Applicant.

Due to the large number of pipelines that have filed to comply with the Annual Charge Adjustment Billing, the Commission is issuing this single notice of the filings. The filings received are reflected in the caption of this notice.

Any person desiring to become a party in any of the listed dockets must file a separate motion to intervene in each docket for which they wish party status.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please email FERCOnlineSupport@ferc.gov, or call (866) 208-3676 (toll free). For TTY, call (202) 502-8659.

Comment Date: 5 p.m. Eastern Time on September 15, 2006.

Magalie R. Salas,
Secretary.

[FR Doc. E6-15180 Filed 9-12-06; 8:45 am]

BILLING CODE 6717-01-P